ENVIRONMENTAL PROTECTION AGENCY

[FRL-8548-6]

Science Advisory Board Staff Office; Request for Nominations of Experts to Augment the Science Advisory Board Homeland Security Advisory Committee

AGENCY: Environmental Protection Agency (EPA).

ACTION: Notice.

SUMMARY: The Environmental Protection Agency (EPA or Agency) Science Advisory Board (SAB) Staff Office is requesting public nominations of experts in microbiology. Nominees with appropriate expertise will be considered for service on the SAB Homeland Security Advisory Committee (HSAC) to provide consultative advice on a Draft Federal Inter-agency Anthrax Technical Assistance Document.

DATES: Nominations for the specific microbiological expertise noted below should be submitted by April 18, 2008.

FOR FURTHER INFORMATION CONTACT: Members of the public who wish to obtain further information regarding how to submit nominations may contact Ms. Vivian Turner, Designated Federal Officer, by telephone: (202) 343-9697 or e-mail at: turner.vivian@epa.gov. The SAB Mailing address is: U.S. EPA Science Advisory Board (1400F), U.S. Environmental Protection Agency, 1200 Pennsylvania Avenue, NW., Washington, DC 20460. General information about the SAB as well as any updates concerning this request for nominations may be found on the SAB Web Site at http://www.epa.gov/sab.

Technical Contact: For questions and information concerning the draft technical documents and background information, contact Captain Colleen Petullo at (702) 784-8004, or petullo.colleen@epa.gov.

SUPPLEMENTARY INFORMATION: EPA's Office of Solid Waste and Emergency Response (OSWER) is charged with preserving and restoring the land by using innovative waste management practices and cleaning up contaminated properties to reduce risks posed by of harmful substances. EPA has a major role in reducing the risk to human health and the environment posed by accidental or intentional releases of harmful substances. For Emergency Preparedness, Response and Homeland Security, EPA works closely with sixteen other Federal agencies on the National Response Team (NRT). EPA's OSWER, on behalf of the NRT, is requesting the Science Advisory Board (SAB) to conduct a consultation on the Draft Federal Inter-Agency Anthrax Technical Assistance Document (TAD). The TAD is an interim technical resource document developed in response to the 2001 anthrax incidents. The NRT requested that the Weapons of Mass Destruction (WMD) Subcommittee to the Science and Technology Committee revise the TAD based on consultative advice from the SAB.

The SAB was established by 42 U.S.C. 4365 to provide independent scientific and technical advice to the EPA Administrator on the technical basis for Agency positions and regulations. The SAB is a Federal Advisory Committee chartered under the Federal Advisory Committee Act (FACA), as amended, 5 U.S.C., App. The SAB will comply with the provisions of FACA and all appropriate SAB Staff Office procedural policies. In response to the OSWER request, the SAB Homeland Security Advisory Committee (HSAC) will conduct this consultation and provide scientific and technical advice to the EPA Administrator through the chartered SAB on scientific matters pertaining to EPA's mission in protecting against the environmental and health consequences of terrorism. There is a need to supplement the HSAC expertise with microbiologists. Accordingly, the SAB is seeking nominations of nationally and internationally recognized microbiologists with specialized expertise in bacteriology of aerobic gram positive rod endospore formers (i.e., Bacillus anthracis). Individuals should possess extensive expertise in genomic and strain analysis and expertise in method development for Weapons of Mass Destruction emergency responders.

Process and Deadline for Submitting Nominations: Any interested person or organization may nominate individuals qualified in the area of microbiology as described above. Self-nominations are also requested. Nominations may be submitted in electronic format through the Form for Nominating Individuals to Panels of the EPA Science Advisory Board which can be accessed through a link on the blue navigational bar on the SAB Web Site at: http://www.epa.gov/sab. Please follow the instructions for submitting nominations carefully, and include all of the information requested on that form. The nominating form requests contact information of the person making the nomination; contact information for the nominee; the disciplinary and specific areas of expertise of the nominee; the nominee's curriculum vita; and a biographical sketch of the nominee indicating current position, educational background, research activities, and recent service on other national advisory committees or national professional organizations. Anyone unable to submit nominations using the electronic form, or who may have questions concerning the nomination process or any other aspect of this notice may contact Ms. Vivian Turner, DFO, at the contact information above. Nominations should be submitted in time to arrive no later than April 18, 2008.

The approved policy used by the SAB Staff Office in its selection process is described in the Overview of the Panel Formation Process at the Environmental Protection Agency, Science Advisory Board (EPA-SAB-EC-COM-02-010), on the SAB Web Site at: http://yosemite.epa.gov/sab/sabproduct.nsf/19EDA5C43A43D86A852571AE006390EC/$File/ecm02003.pdf. The SAB Staff Office will acknowledge receipt of nominations and inform nominees of the panel for which they have been nominated. From the nominees identified by respondents to this Federal Register notice (termed the “Widecast”), the SAB Staff Office will develop a smaller subset (known as the “Short List”) for more detailed consideration. The Short List will be posted on the SAB Web Site at: http://www.epa.gov/sab and will include the nominee's name and biographical sketch. Public comments on the Short List will be accepted for 21 calendar days. During this comment period, the public will be requested to provide information, analysis or other documentation on nominees that the SAB Staff Office should consider in evaluating candidates for the panel. For the SAB, a balanced panel is characterized by inclusion of nominees who possess the necessary domains of knowledge, the relevant scientific perspectives (which, among other factors, can be influenced by work history and affiliation), and the collective breadth of experience to adequately address the charge. Public responses to the Short List will be considered in the selection of the panel members, along with information provided by nominees and information independently gathered by SAB Staff (e.g., financial disclosure information and computer searches to evaluate a nominee's prior involvement with the topic under review). Specific criteria to be used in evaluating Short List nominees include: (a) Scientific and/or technical expertise, knowledge, and experience (primary factors); (b) absence of financial conflicts of interest; (c) scientific credibility and impartiality; (d) availability and willingness to serve; and (e) ability to work constructively and effectively on committees.

Dated: March 21, 2008.
Vanessa T. Vu,
Director, EPA Science Advisory Board Staff Office.

[FR Doc. E8-6405 Filed 3-27-08; 8:45 am]

BILLING CODE 6560-50-P